DEPARTMENT OF ENERGY

Federal Energy Regulatory Commission

Combined Notice of Filings #1

Take notice that the Commission received the following electric corporate filings:

Docket Numbers: EC20-12-000.

Applicants: Gauley River Power Partners, LLC.

Description: Application for Authorization Under Section 203 of the Federal Power Act, et al. of Gauley River Power Partners, LLC.

Filed Date: 10/21/19.

Accession Number: 20191021-5095.

Comments Due: 5 p.m. ET 11/12/19.

Take notice that the Commission received the following electric rate filings:

Docket Numbers: ER18-646-002.

Applicants: Chambersburg Energy, LLC.

Description: Report Filing: Refund Report Informational Filings to be effective N/A.

Filed Date: 10/21/19.

Accession Number: 20191021-5214.

Comments Due: 5 p.m. ET 11/12/19.

Docket Numbers: ER18-647-002.

Applicants: Gans Energy, LLC.

Description: Report Filing: Refund Report Informational Filings to be effective N/A.

Filed Date: 10/21/19.

Accession Number: 20191021-5216.

Comments Due: 5 p.m. ET 11/12/19.

Docket Numbers: ER18-648-002.

Applicants: Springdale Energy, LLC.

Description: Report Filing: Refund Report Informational Filings to be effective N/A.

Filed Date: 10/21/19.

Accession Number: 20191021-5217.

Comments Due: 5 p.m. ET 11/12/19.

Docket Numbers: ER18-1384-002.

Applicants: Buchanan Generation, LLC.

Description: Report Filing: Refund Report Informational Filings to be effective N/A.

Filed Date: 10/21/19.

Accession Number: 20191021-5218.

Comments Due: 5 p.m. ET 11/12/19.

Docket Numbers: ER19-2823-000.

Applicants: Isabella Wind, LLC.

Description: Supplement to September 17, 2019 Isabella Wind, LLC tariff filing.

Filed Date: 10/18/19.

Accession Number: 20191018-5242.

Comments Due: 5 p.m. ET 10/28/19.

Docket Numbers: ER20-158-000.

Applicants: Genbright LLC.

Description: Petition for Limited Waiver, et al. of Genbright, LLC.

Filed Date: 10/21/19.

Accession Number: 20191021-5258.

Comments Due: 5 p.m. ET 11/4/19.

Docket Numbers: ER20-159-000.

Applicants: Midcontinent Independent System Operator, Inc., Pioneer Transmission LLC.

Description: § 205(d) Rate Filing: 2019-10-22_Pioneer Regulatory Asset Recovery Filing to be effective 1/1/2020.

Filed Date: 10/22/19.

Accession Number: 20191022-5027.

Comments Due: 5 p.m. ET 11/12/19.

Docket Numbers: ER20-160-000.

Applicants: Brea Generation LLC.

Description: Tariff Cancellation: Notice of Cancellation to be effective 10/23/2019.

Filed Date: 10/22/19.

Accession Number: 20191022-5032.

Comments Due: 5 p.m. ET 11/12/19.

Docket Numbers: ER20-161-000.

Applicants: Niagara Mohawk Power Corporation, New York Independent System Operator, Inc.

Description: § 205(d) Rate Filing: Amended E&P Agreement (SA 2471) Niagara Mohawk and Invenergy Wind Development to be effective 10/1/2019.

Filed Date: 10/22/19.

Accession Number: 20191022-5058.

Comments Due: 5 p.m. ET 11/12/19.

Docket Numbers: ER20-162-000.

Applicants: Tucson Electric Power Company.

Description: § 205(d) Rate Filing: Concurrence to APS RS No. 297 to be effective 12/1/2019.

Filed Date: 10/22/19.

Accession Number: 20191022-5090.

Comments Due: 5 p.m. ET 11/12/19.

Docket Numbers: ER20-163-000.

Applicants: Midcontinent Independent System Operator, Inc.

Description: § 205(d) Rate Filing: 2019-10-22_SA 2328 California Ridge-Ameren 3rd Rev GIA (H100 J196) to be effective 10/23/2019.

Filed Date: 10/22/19.

Accession Number: 20191022-5095.

Comments Due: 5 p.m. ET 11/12/19.

Docket Numbers: ER20-164-000.

Applicants: Northern Indiana Public Service Company.

Description: § 205(d) Rate Filing: Filing of a CIAC Agreement to be effective 12/21/2019.

Filed Date: 10/22/19.

Accession Number: 20191022-5115.

Comments Due: 5 p.m. ET 11/12/19.

Docket Numbers: ER20-165-000.

Applicants: PacifiCorp.

Description: § 205(d) Rate Filing: UAMPS Construction Agmt—Morgan Temp Tap Rev 1 to be effective 12/22/2019.

Filed Date: 10/22/19.

Accession Number: 20191022-5116.

Comments Due: 5 p.m. ET 11/12/19.

Docket Numbers: ER20-166-000.

Applicants: Florida Power & Light Company.

Description: § 205(d) Rate Filing: FPL and LCEC Revisions to Rate Schedule FERC No. 317 to be effective 1/1/2018.

Filed Date: 10/22/19.

Accession Number: 20191022-5153.

Comments Due: 5 p.m. ET 11/12/19.

Docket Numbers: ER20-167-000.

Applicants: Florida Power & Light Company.

Description: § 205(d) Rate Filing: FPL and FKEC Revisions to Rate Schedule FERC No. 322 to be effective 1/1/2018.

Filed Date: 10/22/19.

Accession Number: 20191022-5155.

Comments Due: 5 p.m. ET 11/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2019.
Nathaniel J. Davis, Sr.,
Deputy Secretary.

[FR Doc. 2019-23518 Filed 10-25-19; 8:45 am]

BILLING CODE 6717-01-P